DEPARTMENT OF TRANSPORTATION

Maritime Administration

46 CFR Parts 381 and 382

[Docket No. MARAD 2011-0121]

Retrospective Review Under E.O. 13563: Cargo Preference

AGENCY: Maritime Administration, Department of Transportation.

ACTION: Notice of public meeting.

SUMMARY: The Department of Transportation (Department or DOT) has been engaged for several years in an interagency discussion of its existing Cargo Preference regulations. In accordance with Executive Order 13563, “Improving Regulation and Regulatory Review,” the Maritime Administration (MarAd) is evaluating the rules' continued validity and whether they effectively address current issues. As part of this review, MarAd invites the public to participate in a comment process designed to help it provide for a more easily administered system of regulations to benefit shippers and shipper agencies in meeting cargo preference requirements pursuant to the Merchant Marine Act, 1936, as amended (the Act) and Maritime Administration implementing regulations.

DATES: The public meeting will be held from 1 to 4 p.m. on October 3, 2011. Other important dates:

Deadline to register to attend the public meeting in person [See also Registration] | September 23, 2011.
Deadline to register to speak in person, speak by calling in, or to listen only by phone [See also Registration] | September 23, 2011.
Agenda released on regs.dot.gov and MarAd Web site | September 28, 2011.
Call-in and Listen-only info distributed to registrants | September 28, 2011.
Deadline to submit any digital presentation materials | September 28, 2011.
Public Meeting | October 3, 2011— 1 p.m.-4 p.m.

ADDRESSES: The public meeting will be held in the DOT Conference Center rooms 8-10, located on the ground floor of 1200 New Jersey Avenue, SE., Washington, DC 20590. The conference rooms will be open at noon to accommodate early arrivals. Overflow seating will be available in the adjacent conference room 6.

FOR FURTHER INFORMATION CONTACT: Christine S. Gurland, Assistant Chief Counsel for Legislation and Regulations, Office of the Chief Counsel, Mar 225, Maritime Administration, 1200 New Jersey Avenue, Washington, DC 20590; (202) 366-5157; e-mail: Christine.Gurland@dot.gov.

SUPPLEMENTARY INFORMATION:

Background

On January 18, 2011, President Obama issued Executive Order 13563, which outlined a plan to improve regulation and regulatory review (76 FR 3821, 1/21/11). Executive Order 13563 reaffirms and builds upon governing principles of contemporary regulatory review, including Executive Order 12866, “Regulatory Planning and Review,” (58 FR 51735, 10/4/1993), by requiring Federal agencies to design cost-effective, evidence-based regulations that are compatible with economic growth, job creation, and competitiveness. The President's plan recognizes that these principles should not only guide the Federal government's approach to new regulations, but to existing ones as well. To that end, Executive Order 13563 requires agencies to review existing significant rules to determine if they are outmoded, ineffective, insufficient, or excessively burdensome.

Accordingly, the Maritime Administration is soliciting public comment concerning amendment of its cargo preference regulations governing the carriage of imports and exports, other than those shipped by the Department of Defense. MarAd is considering updating and clarifying its regulations at 46 CFR parts 381 and 382, and establishing procedures to ensure compliance with the cargo preference statutes and regulations in a new part 383. Part 381 implements the requirements of Section 901 of the Merchant Marine Act, 1936, as amended (46 U.S.C. sections 55304 through 55317) (the Act). The Act requires that a specified percentage of ocean-going cargo generated by Government programs be transported in U.S.-flag, privately owned, commercial vessels. The Act also authorizes the Maritime Administration to issue regulations governing the administration of these cargo preference requirements. MarAd is considering amending existing regulations in order to provide for a more easily administered system of regulations to benefit shippers and shipper agencies in meeting statutory requirements.

As Executive Order 13563 reaffirms, the regulatory process must be transparent and provide opportunities for public participation. MarAd particularly believes that the review of its cargo preference regulations will be more meaningful if it involves input from those affected by those regulations.

Public Meeting Procedures

1. The public meeting will be broadcast live via Web streaming and a listen-only telephone line. The public may access the live Web streaming by a link from http://www.marad.dot.gov. Listen-only telephone line participants must register in order to obtain the telephone number.

2. Members of the public are invited to make comments in person at the venue, through a call-in number, or by entry in the Maritime Administration docket. When registering to speak in person or by telephone, please estimate the amount of time that you would like to use for your presentation; final times will be allotted to participants based on the time available and the issues raised.

3. Those who wish to speak during the meeting are requested to advise, at the time of registration, what topic or topics they would like to comment on; amplifying information will be welcome but is not required. For example, comments may focus on, but are not limited to, the following topics: Implementation of the National export policy; Transparency of program transactions; Ease and flexibility of use; Market competition; Government cost control; Stability of the investment environment; Enhancement of the Nation's sealift capability; and Program enforcement mechanisms.

4. Any digital presentation materials for the meeting should be submitted to Thelma Goldring no later than September 28, 2011. [See Registration section for contact information.]

5. We hope to be able to accommodate everyone who would like to speak at the meeting, but if there are more interested participants than time available, we will limit participants in order of date and time of registration. If available, time will be allotted to those attending the meeting in person to speak, even if they had not previously registered to speak. For those who wish to make comments, but for whom there is not time available or who do not wish to speak, it will be possible to post comments to the public docket. [See also Maritime Administration Docket section.]

6. In-person attendees are encouraged to arrive at least 30 minutes prior to the meeting for processing through building security. All in-person attendees must enter through the New Jersey Avenue entrance (West Building—at the corner of New Jersey Avenue and M Street, SE). Anyone exiting the building for any reason will be required to re-enter through the security checkpoint at the New Jersey Avenue entrance.

7. Due to security requirements, all in-person attendees must bring a Government issued form of identification (e.g. driver's license) to ensure access to the building. In-person attendees who have Federal government identification are required to register to attend due to space constraints. Government issued photo identification is required and Foreign National in-person attendees must bring their passports with them. To facilitate security screening, all in-person attendees are encouraged to limit bags and other items (e.g. mobile phones, laptops, cameras, etc.) they bring into the building.

8. Due to space limitations no outside videotaping will be allowed.

9. DOT/MarAd is not able to offer visitor parking; we suggest that attendees consider using alternative means of transportation to the building. DOT Headquarters/MarAd is served by Metrorail (Navy Yard station), Metrobus, DC Circulator, and taxi service. There are a number of private parking lots near the DOT building, but MarAd cannot guarantee the availability of parking spaces.

10. For information on facilities or services for persons with disabilities, or to request special assistance at the meeting, contact Thelma Goldring, Office Manager, Office of the Chief Counsel, Mar 220, Maritime Administration, 1200 New Jersey Avenue, SE., Washington, DC 20590; (202) 366-5186; Thelma.Goldring@dot.gov as soon as possible.

11. We will post the public meeting agenda to the docket at http://regs.dot.gov and on our Web site at http://www.marad.dot.gov by September 28, 2011.

12. MarAd's Chief Counsel will preside over the public meeting. Senior MarAd officials will also attend this meeting as part of a panel with the Chief Counsel to receive comments from the public. During the meeting, we may ask questions that will clarify statements or gather more information or data to help us understand the issues raised by commenters.

13. The meeting is designed to solicit public views and gather additional information for our regulatory review. Therefore, the meeting will be conducted in an informal and non-adversarial manner.

14. A transcript of the public meeting will be available via our Web site at http://www.marad.dot.gov and posted to the docket at http://regs.dot.gov.

Registration

All in-person attendees, whether or not they are planning to provide their views to the panel, must register with Thelma Goldring, Office Manager, Office of the Chief Counsel, Mar 220, Maritime Administration, 1200 New Jersey Avenue, SE., Washington, DC 20590; (202) 366-5186; Thelma.Goldring@dot.gov no later than September 23, 2011. Any person wishing to present an oral statement via telephone, or any person who would like to listen to the meeting over a listen-only telephone line must also register with Thelma Goldring by September 23, 2011. Call-in and listen-only telephone numbers will be distributed to registered participants on September 28, 2011. Foreign National registrants must provide full name, title, country of citizenship, date of birth, passport number, and passport expiration date when registering.

Because seating space is limited, we may have to limit the number of attendees in order of date and time of registration.

Maritime Administration Docket

In order to provide the public with alternative means of providing feedback to MarAd in ways that may better suit their needs, we have provided a docket at http://regs.dot.gov to allow for submissions to MarAd in a less formal manner. The MarAd Docket provides members of the public who do not wish to make a presentation, cannot make a presentation, or who wish to add other comments, an opportunity to submit their ideas about our Cargo Preference regulatory review.

To ensure that comments are most useful in informing our deliberation and decision process, you should include the docket number (MARAD 2001-0121), the citation to the regulation on which you are commenting (e.g., 46 CFR 381.5), a description of any concerns regarding the regulation, and any supporting information that would assist MarAd in making a decision. To go directly to the Web site use the following link: http://regs.dot.gov.

Follow-Up Action by MarAd

Comments received during our review will provide meaningful and significant information for senior MarAd officials assessing the cargo preference regulatory process. The recorded webcast video will remain available following the meeting via a link from our Web site at http://www.marad.dot.gov.

Privacy Act Statement

Anyone is able to search all comments entered into any of our dockets by the name of the individual submitting the comment (or signing the comment, if submitted on behalf of an association, business, labor union, etc.). You may review DOT's complete Privacy Act Statement in the Federal Register published on April 11, 2000 (65 FR 19476, 04/11/2011) or at http://www.dot.gov/privacy.html.

Authority: 5 U.S.C. 610; E.O., 13563, 76 FR 3821, Jan. 21, 2011; E.O. 12866, 58 FR 51735, Oct. 4, 1993.

Issued on September 16, 2011 in Washington, DC.
By Order of the Maritime Administrator Maritime Subsidy Board.
Dated: September 14, 2011.
Julie Agarwal,
Secretary, Maritime Administration.

[FR Doc. 2011-23983 Filed 9-16-11; 8:45 am]

BILLING CODE 4910-81-P